DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the name of one person that has been placed on OFAC's Specially Designated Nationals and Blocked Persons List (SDN List) based on OFAC's determination that one or more applicable legal criteria were satisfied. All property and interests in property subject to U.S. jurisdiction of this person are blocked, and U.S. persons are generally prohibited from engaging in transactions with them. Additionally, OFAC is publishing the names of one or more entities whose property and interests in property have been unblocked and who have been removed from the SDN List.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

A. On January 17, 2024, OFAC determined that the property and interests in property subject to U.S. jurisdiction of the following person are blocked under the relevant sanctions authority listed below.

Individual

1. PIMENTEL MATA, Alberto; (a.k.a. PIMENTEL, Alberto), Guatemala; DOB 26 Oct 1981; POB San Jose, Costa Rica; nationality Guatemala; Gender Male; Passport 238670724 (Guatemala) expires 14 Jan 2024; National ID No. 2386707240101 (Guatemala) (individual) [GLOMAG].

Designated pursuant to section 1(a)(ii)(B)(1) of Executive Order (E.O.) 13818 of December 20, 2017, “Blocking the Property of Persons Involved in Serious Human Rights Abuse or Corruption,” 82 FR 60839 (Dec. 26, 2017) for being a foreign person who is a current or former government official, or a person acting for or on behalf of such an official, who is responsible for or complicit in, or has directly or indirectly engaged in, corruption, including the misappropriation of state assets, the expropriation of private assets for personal gain, corruption related to government contracts or the extraction of natural resources, or bribery.

B. On January 17, 2024, OFAC determined that the following entities would be removed from the SDN List and that their property and interests in property subject to U.S. jurisdiction are unblocked pursuant to E.O. 13818. These entities are no longer subject to the blocking provisions of Section 1(a) of E.O. 13818.

Entities

1. COMPANIA GUATEMALTECA DE NIQUEL, SOCIEDAD ANONIMA (a.k.a. COMPANIA GUATEMALTECA DE NIQUEL; a.k.a. GUATEMALAN NICKEL COMPANY; a.k.a. “CGN”), 9-55 Avenida Reforma Z.10, Guatemala City, Guatemala; Organization Established Date 22 Jun 1960; NIT # 335886 (Guatemala) [GLOMAG].

2. COMPANIA PROCESADORA DE NIQUEL DE IZABAL, S.A. (a.k.a. COMPANIA PROCESADORA DE NIQUEL; a.k.a. COMPANIA PROCESADORA DE NIQUEL DE IZABAL, SOCIEDAD ANONIMA; a.k.a. “PRONICO”), 9-55 Avenida Reforma Z.10, Guatemala City, Guatemala; Organization Established Date 03 Sep 2013; NIT # 83557008 (Guatemala) [GLOMAG].

3. MAYANIQUEL, SOCIEDAD ANONIMA, 12 Calle 2-25 Z.10, Guatemala City, Guatemala; Organization Established Date 03 Oct 1996; NIT # 8252149 (Guatemala) [GLOMAG].

Dated: January 17, 2024.
Bradley T. Smith,
Director, Office of Foreign Assets Control, U.S. Department of the Treasury.

[FR Doc. 2024-01246 Filed 1-22-24; 8:45 am]

BILLING CODE 4810-AL-P